ENVIRONMENTAL PROTECTION AGENCY

[OPP-420478; FRL-6550-6]

South Dakota State Plan for Certification of Applicators of Restricted Use Pesticides; Notice of Intent to Amend Plan

AGENCY: Environmental Protection Agency (EPA).

ACTION: Notice.

SUMMARY: The State of South Dakota has submitted to EPA a proposed amendment to their State Certification Plan which would allow the use of M-44 Sodium Cyanide Devices by both commercial and private applicators to control coyotes (Canis latrans) that prey upon livestock and poultry. The proposed amendment establishes new requirements for the training, certification, recertification, and recordkeeping of individuals that use M-44 Sodium Cyanide Devices. Notice is hereby given of the intention of the Regional Administrator, Region VIII, to approve the revised South Dakota State Plan for the Certification of Applicators of Restricted Use Pesticides. EPA is soliciting comments on the proposed amendments.

DATES: Comments, identified by docket control number OPP-42078, must be received on or before August 28, 2000.

ADDRESSES: Copies of the amended South Dakota State Certification Plan are available for public inspection, see Unit I.B. of the SUPPLEMENTARY INFORMATION for locations.

FOR FURTHER INFORMATION CONTACT: By mail: Ron Schiller, Environmental Protection Agency, Region VIII, Mail Code 8P-P3T, 999 18th St., Suite 500, Denver, CO, 80202; telephone number: (303) 312-6017; e-mail address: schiller.ron@epa.gov.

SUPPLEMENTARY INFORMATION:

I. General Information

A. Does this Action Apply to Me?

This action is directed to the public in general. This action may, however, be of particular interest to those involved in ranching and certain types of food production. Other types of entities could also be affected. If you have questions regarding the applicability of this action to a particular entity, consult the person listed under FOR FURTHER INFORMATION CONTACT.

B. How Can I Get Additional Information, Including Copies of this Document and Other Related Documents?

To obtain copies of the proposed amendment to the South Dakota State Certification Plan or additional information, contact:

1. Ron Schiller at the address/telephone number listed under FOR FURTHER INFORMATION CONTACT.

2. Tim Hagen, South Dakota Department of Agriculture, Division of Agricultural Services, Foss Building, 523 East Capitol, Pierre, SD 57501; telephone number: (605) 773-4432; e-mail address: Tim.Hagen@state.sd.us

3. John MacDonald: By mail: Office of Pesticide Programs, Field and External Affairs Division (7506C), Environmental Protection Agency, Ariel Rios Bldg., 1200 Pennsylvania Ave., NW., Washington, DC 20460. Office location, telephone number, and e-mail address: Rm. 1121, CM #2, 1921 Jefferson Davis Highway, Arlington, VA 22202; telephone number: (703) 305-7370; e-mail: macdonald.john@epa.gov.

C. How and to Whom Do I Submit Comments?

You may submit comments through the mail, in person, or electronically to Ron Schiller at the address listed under FOR FURTHER INFORMATION CONTACT. To ensure proper receipt by EPA, it is imperative that you identify docket control number OPP-42078 in the subject line on the first page of your response. Electronic comments can be submitted by e-mail, or you can submit a computer disk. When submitting comments electronically do not submit any information that you would consider to be CBI. Avoid the use of special characters and any form of encryption. All comments in electronic form must be identified by docket control number OPP-42078.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person identified under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Make sure to submit your comments by the deadline in this notice.

7. To ensure proper receipt by EPA, be sure to identify the docket control number assigned to this action in the subject line on the first page of your response. You may also provide the name, date, and Federal Register citation.

II. What Action is EPA Taking?

EPA has reviewed the revised South Dakota State Certification Plan and finds it in compliance with FIFRA and 40 CFR part 171 and is announcing its intention to approve the amended Plan and seeks public comment.

List of Subjects

Environmental protection.

Dated: June 29, 2000.
Patricia D. Hull,
Acting Regional Administrator, Region VIII.

[FR Doc. 00-17879 Filed 7-13-00; 8:45 am]

BILLING CODE 6560-50-F